PEACE CORPS

Notice of Request for a Revision of a Currently Approved Information Collection and Request for a New OMB Control Number

ACTION: 60-day notice and request for comments.

SUMMARY: The Peace Corps will be submitting the following information collection requests to the Office of Management and Budget (OMB) for Revision of a currently approved information collection. In compliance with the Paperwork Reduction Act of 1995 (44 U.S.C. chapter 35), the Peace Corps invites the general public to comment on the extension, with change, of currently approved information collection, Peace Corps Volunter Medical Application Health Status Review (OMB 0420-0510) which consists of three forms: The Health Status Review form (PC 1789); the Report of Medical Exam (PC 1790 S); and, Dental Exam (PC 1790). The Peace Corps wants to remove the Dental Exam (PC 1790) from OMB 0420-0510 and request a new OMB Control Number for Dental Exam (PC 1790). This process is conducted in accordance with 5 CFR 1320.10.

DATES: Comments must be submitted on or before May 27, 2011.

ADDRESSES: Comments should be addressed to Denora Miller, Freedom of Information Act Officer. Denora Miller can be contacted by telephone at 202-692-1236 or e-mail at pcfr@peacecorps.gov. E-mail comments must be made in text and not in attachments.

FOR FURTHER INFORMATION CONTACT: Denora Miller at Peace Corps address above.

SUPPLEMENTARY INFORMATION: Title: Peace Corps Volunter Medical Application Health Status Review which consists of three forms: the Health Status Review form (PC 1789); the Report of Medical Exam (PC 1790 S); and, the Dental Exam (PC 1790).

OMB Control Number: 0420-0510.

Type of Request: Revision of a currently approved information collection. Peace Corps seeks to remove the Dental Exam (PC 1790) from this collection.

Respondents: Potential and current volunteers.

| Health status review (PC 1789) | Report of medical evaluation (PC 1790 S) | Report of dental evaluation (PC 1790)
a. Estimated number of respondents | 9,700 | 5,000 | 5,000.
b. Estimated average burden per response | 45 minutes | 45 minutes | 45 minutes.
c. Frequency of response | One time | One time | One time.
d. Annual reporting burden | 7,275 hours | 3,750 hours | 3,750 hours.
e. Estimated annual cost to respondents | $175,546 | $90,488 | $90,488.

General description of collection: The Peace Corps Act requires that Volunteers receive health examinations prior to their service. The information collected is required for consideration for Peace Corps Volunteer service. The Health Status Review is used to review the medical history of individual applicants. The Report of Medical Exam and the Report of Dental Exam are used by the examining physician and dentist both for applicants and for currently serving Volunteers. The results of these examinations are used to ensure that applicants for Volunteer service will, with reasonable accommodation, be able to serve in the Peace Corps without jeopardizing their health.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC on March 21, 2011.
Garry W. Stanberry,
Deputy Associate Director, Management.

[FR Doc. 2011-7201 Filed 3-25-11; 8:45 am]

BILLING CODE 6051-01-P